DEPARTMENT OF TRANSPORTATION

Federal Railroad Administration

[Docket Number FRA-2011-0035]

Petition for Waiver of Compliance

In accordance with Part 211 of Title 49 of the Code of Federal Regulations (CFR), this document provides the public notice that by a document dated April 15, 2011, the American Short Line and Regional Railroad Association (ASLRRA), on behalf of seven of its member railroads, has petitioned the Federal Railroad Administration (FRA) for a waiver of compliance from certain provisions of the Federal hours of service laws contained at 49 U.S.C. 21103(a)(4). FRA assigned the petition Docket Number FRA-2011-0035.

In their petition, ASLRRA seeks the identical relief granted in FRA's March 5, 2010, decision in FRA Docket Number 2009-0078, related to 49 U.S.C. 21103(a)(4), for these additional seven railroads. In addition, subsequent to FRA's issuance of a final decision in Docket Number FRA-2009-0078, the York Railway submitted a comment in that docket seeking to become a party to the waiver. In its March 15, 2011, letter, FRA specifically indicated that “[i]f a railroad listed on ASLRRA's Second Amended Exhibit A has not yet met the joint filing requirement of the [hours of service law] as outlined in FRA's March 5, 2010, letter, that railroad is not a party to this waiver.” Recognizing that as a practical matter, the posting of FRA's final decision letter in Docket Number FRA-2009-0078 may have crossed with the submission of the York Railway's request to be included in the waiver. FRA is addressing that request in this docket (FRA-2011-0035). Accordingly, a copy of York Railway's submission has been placed in Docket Number FRA-2011-0035, and FRA will address that request for relief from the hours of service law requirements in conjunction with ASLRRA's April 15, 2011, petition.

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by July 29, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 9, 2011.
Robert C. Lauby,
Deputy Associate Administrator for Regulatory & Legislative Operations.

[FR Doc. 2011-14732 Filed 6-13-11; 8:45 am]

BILLING CODE 4910-06-P